DEPARTMENT OF ENERGY

Federal Energy Regulatory Commission

Combined Notice of Filings

Take notice that the Commission has received the following Natural Gas Pipeline Rate and Refund Report filings:

Filings Instituting Proceedings

Docket Numbers: RP13-686-000.

Applicants: Natural Gas Pipeline Company of America.

Description: Negotiated Rate-Tenaska to be effective 3/18/2013.

Filed Date: 3/18/13.

Accession Number: 20130318-5081.

Comments Due: 5 p.m. ET 4/1/13.

Docket Numbers: RP13-687-000.

Applicants: Cameron Interstate Pipeline, LLC.

Description: Cameron Interstate Pipeline LLC Annual Report of Penalty Revenues.

Filed Date: 3/18/13.

Accession Number: 20130318-5082.

Comments Due: 5 p.m. ET 4/1/13.

Docket Numbers: RP13-688-000.

Applicants: Cameron Interstate Pipeline, LLC.

Description: Cameron Interstate Pipeline LLC Annual Report of Interruptible Transportation Revenue Sharing.

Filed Date: 3/18/13.

Accession Number: 20130318-5083.

Comments Due: 5 p.m. ET 4/1/13.

Docket Numbers: RP13-689-000.

Applicants: Cameron Interstate Pipeline, LLC.

Description: Cameron Interstate Pipeline LLC Annual Report of Operational Imbalances and Cash-out Activity.

Filed Date: 3/18/13.

Accession Number: 20130318-5086.

Comments Due: 5 p.m. ET 4/1/13.

Docket Numbers: RP13-690-000.

Applicants: Cameron Interstate Pipeline, LLC.

Description: Cameron Interstate Pipeline LLC Annual Report of Transportation Imbalances and Cash-out Activity.

Filed Date: 3/18/13.

Accession Number: 20130318-5087.

Comments Due: 5 p.m. ET 4/1/13.

Docket Numbers: RP13-691-000.

Applicants: Natural Gas Pipeline Company of America.

Description: Natural Gas Pipeline Company of America LLC submits tariff filing per 154.204: Tenaska Negotiated Rate Amendment to be effective 3/18/2013.

Filed Date: 3/18/13.

Accession Number: 20130318-5097.

Comments Due: 5 p.m. ET 4/1/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP10-782-002.

Applicants: Columbia Gas Transmission, LLC.

Description: Offsystem Pipeline Capacity Compliance Filing in RP10-782 to be effective 5/1/2010.

Filed Date: 3/18/13.

Accession Number: 20130318-5100.

Comments Due: 5 p.m. ET 4/1/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 19, 2013.
Nathaniel J. Davis, Sr.,
Deputy Secretary.

[FR Doc. 2013-06784 Filed 3-25-13; 8:45 am]

BILLING CODE 6717-01-P